DEPARTMENT OF DEFENSE

Department of the Navy

Notice of Intent to Grant Partially Exclusive Patent License; Gem City Engineering Company

AGENCY: Department of the Navy, DoD.

ACTION: Notice.

SUMMARY: The Department of the Navy herby gives notice of its intent to grant to Gem City Engineering Company, a revocable, nonassignable, partially exclusive license in the United States to practice the Government-Owned invention(s) described in U.S. Patent Application 11/832,065 entitled “Wireless Self-Contained Relay Device”, file date Aug 1, 2007; and U.S. Patent Application 11/832,103 entitled “Relay Device Deployer System” file date Aug 1, 2007.

DATES: Anyone wishing to object to the grant of this license must file written objections along with supporting evidence, if any, not later than February 5, 2009.

ADDRESSES: Written objections are to be filed with the Office of Research and Technology Applications, Space and Naval Warfare Systems Center, San Diego, Code 72120, 53560 Hull St, San Diego, CA 92152-5001.

FOR FURTHER INFORMATION CONTACT: Stephen H. Lieberman, PhD, Office of Research and Technology Applications, Space and Naval Warfare Systems Center, San Diego, Code 72120, 53560 Hull St, San Diego, CA 92152-5001, telephone: 619-553-2778, E-Mail: stephen.lieberman@navy.mil.

Authority: 35 U.S.C. 207, 37 CFR Part 404.

Dated: January 13, 2009.
A.M. Vallandingham,
Lieutenant Commander, Judge Advocate General's Corps, U.S. Navy, Federal Register Liaison Officer.

[FR Doc. E9-1039 Filed 1-16-09; 8:45 am]

BILLING CODE 3810-FF-P